NUCLEAR REGULATORY COMMISSION

Office of Nuclear Material Safety and Safeguards, Spent Fuel Project Office; Notice of Issuance and Availability of NUREG-1567, Standard Review Plan for Spent Fuel Dry Storage Facilities

The United States Nuclear Regulatory Commission (NRC) has issued the final report NUREG-1567, “Standard Review Plan for Spent Fuel Dry Storage Facilities”.

The Standard Review Plan for Spent Fuel Dry Storage Facilities provides guidance to the NRC staff for reviewing applications for license approval or renewal for commercial independent spent fuel storage installations (ISFSIs). An ISFSI may be co-located with a reactor or may be away from a reactor site. These installations may be designed for the storage of irradiated nuclear fuel and associated radioactive materials.

NUREG-1567 is intended for use by the NRC staff. Its objectives are to: (1) Summarize the requirements in Title 10, Code of Federal Regulations, Part 72 for facility approval; (2) describe the procedures by which the NRC staff determines that these requirements have been satisfied; and (3) document the practices developed by the staff in previous reviews of facility applications.

NUREG-1567 is available for inspection, and copying for a fee, at the NRC Public Document Room, 2120 L Street NW (Lower Level), Washington DC 20555-0001. Copies of NUREG-1567 may be purchased from the Superintendent of Documents, U.S. Government Printing Office, P.O. Box 37082, Washington, DC 20402-9328, telephone no. 1-202-512-1800, or the National Technical Information Service, 5285 Port Royal Road, Springfield, VA 22161, telephone no. 1-800-553-6847. This document is also available at the NRC web site, http://www.nrc.gov. See the link under “Technical Reports in the NUREG Series” on the “Reference Library Page.”

Dated at Rockville, Maryland, this 11th day of April, 2000.
For the Nuclear Regulatory Commission.
M. Wayne Hodges,
Deputy Director, Technical Review Directorate, Spent Fuel Project Office, Office of Nuclear Material Safety and Safeguards.

[FR Doc. 00-9626 Filed 4-17-00; 8:45 am]

BILLING CODE 7590-01-P